DEPARTMENT OF THE INTERIOR

Fish and Wildlife Service

[FWS-R4-R-2010-N172; 40136-1265-0000-S3]

Tennessee National Wildlife Refuge, Henry, Benton, Decatur, and Humphreys Counties, TN; Final Comprehensive Conservation Plan and Finding of No Significant Impact for Environmental Assessment

AGENCY: Fish and Wildlife Service, Interior.

ACTION: Notice of availability.

SUMMARY: We, the Fish and Wildlife Service (Service), announce the availability of our final comprehensive conservation plan (CCP) and finding of no significant impact (FONSI) for the environmental assessment for Tennessee National Wildlife Refuge (NWR). In the final CCP, we describe how we will manage this refuge for the next 15 years.

ADDRESSES: You may obtain a copy of the CCP by writing to: Mr. Troy Littrell, Tennessee National Wildlife Refuge, 3006 Dinkins Lane, Paris, Tennessee 38242. The CCP may also be accessed and downloaded from the Service's Web site: http://southeast.fws.gov/planning/, under “Final Documents.”

FOR FURTHER INFORMATION CONTACT: Mr. Troy Littrell; telephone: 731/642-2091; fax: 731/644-3351; e-mail: troy_littrell@fws.gov.

SUPPLEMENTARY INFORMATION:

Introduction

With this notice, we finalize the CCP process for Tennessee NWR. We started this process through a notice in the Federal Register on April 2, 2008 (73 FR 17994).

On December 28, 1945, President Harry S. Truman signed Executive Order No. 9670, establishing the Tennessee NWR. The following day, the Department of the Interior and the Tennessee Valley Authority (TVA) entered into an agreement that the lands would henceforth be reserved for use as a wildlife refuge. Tennessee NWR runs along 65 miles of the Tennessee River in Henry, Benton, Decatur, and Humphreys Counties, Tennessee. The refuge is comprised of three units: the Duck River Unit (26,738 acres), Big Sandy Unit (21,348 acres), and Busseltown Unit (3,272 acres), for a total of 51,358 acres.

The establishing and acquisition authorities for Tennessee NWR include the Migratory Bird Conservation Act (16 U.S.C. 715-715r) and Fish and Wildlife Coordination Act (16 U.S.C. 661-667). In addition, Public Land Order 4560 identified the purposes of the refuge to be “to build, operate and maintain sub-impoundment structures; produce food crops or cover for wildlife; to regulate and restrict hunting, trapping and fishing and to otherwise manage said lands and impoundment areas for the protection and production of wildlife and fish populations” (Public Land Order, 1962).

The refuge provides valuable wintering habitat for migrating waterfowl. It provides habitat and protection for threatened and endangered species such as the gray bat, Indiana bat, least tern, piping plover, pink mucket pearlymussel, ring pink mussel, orangefoot pimpleback pearlymussel, and rough pigtoe and pigmy madtom mussels. The refuge also supports an abundance of wildlife, including over 650 species of plants, 303 species of birds, and 280 species of mammals, fish, reptiles, and amphibians.

We announce our decision and the availability of the final CCP and FONSI for Tennessee NWR in accordance with the National Environmental Policy Act (NEPA) [40 CFR 1506.6(b)] requirements. We completed a thorough analysis of impacts on the human environment, which we included in the Draft Comprehensive Conservation Plan and Environmental Assessment (Draft CCP/EA) for Tennessee NWR. The CCP will guide us in managing and administering Tennessee NWR for the next 15 years.

The compatibility determinations for (1) Wildlife observation and photography, (2) environmental education and interpretation, (3) fishing, (4) hunting, (5) cooperative farming, (6) scientific research, (7) commercial fishing to remove rough fish from impounded waters, (8) horseback riding and horse-drawn conveyance, and (9) bicycling are also available within the CCP. The compatibility determination for marina concessions was removed from the CCP for further environmental analysis and public comment.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

We made copies of the Draft CCP/EA available for a 30-day public review and comment period via Federal Register notice on June 7, 2010 (75 FR 32201). We received 43 comments on the Draft CCP/EA.

Selected Alternative

The Draft CCP/EA identified and evaluated four alternatives for managing the refuge. After considering the comments we received, and based on the professional judgment of the planning team, we selected Alternative D for implementation.

Under Alternative D, we will enhance both wildlife management and public use at Tennessee NWR. We will provide adequate habitats to meet the foraging needs of 121,000-182,000 ducks for 110 days and other habitats that are needed for loafing, roosting, molting, etc. Under this alternative, we will create and enhance existing habitat for secretive marshbirds, sufficient to support 15-25 nesting territories for king rail pairs. Within 10 years of CCP approval, we will provide at least 100 acres of foraging sites in multiple impoundments for both northbound and southbound shorebirds during migration. We will conduct population and habitat surveys to evaluate shorebird use and invertebrate densities within managed and unmanaged habitat. To benefit long-legged wading birds, we will continue to provide for both secure nesting sites and ample foraging habitat. We will develop and implement baseline inventories for non-game mammals, reptiles, amphibians, fish, and invertebrates. We will also consider providing 50-100 acres in 1-3 tracts for the Henslow's sparrow and other grassland species on the Big Sandy Unit.

Under Alternative D, we will intensify existing habitat management programs, practices, and actions. We will improve the moist-soil management program on about 1,600 acres by expanding the invasive exotic plant control program, water management capabilities, and the use of management techniques that set back plant succession. In cooperation with partners, we will reactivate the forest management program on the refuge for the benefit of priority forest interior migratory birds and resident game species. Alternative D will incorporate a comprehensive fire management program into forest habitat.

Over the life of the CCP, Alternative D will redirect management actions to sustain the acreage of unharvested cropland to meet foraging needs of waterfowl and habitat for other native species. It will also increase acreage of hard mast producing bottomland hardwood forest species. We will improve water management capabilities by subdividing existing impoundments, creating new impoundments, and increasing water supply (i.e., pumps, wells, and structures) for migratory birds.

We will aim to increase wildlife observation/photography opportunities with the construction of new public use facilities, and within 2 years of CCP approval, will open a seasonal wildlife drive in the Duck River Bottoms. We will continue to provide environmental education services to the public, including limited visits to schools, environmental education workshops, and on-site and off-site environmental education programs, as well as work with partners to expand environmental education facilities and opportunities on and near the refuge. The existing interpretive program will be expanded.

We will work to construct a combined headquarters and visitor center, incorporating “green” technology on the Big Sandy Unit. Within 15 years of CCP approval, we will build a visitor contact station at the Duck River Unit. We will expand the current staff by twelve, including a forester, a forestry technician, two engineering equipment operators, a tractor operator, two refuge rangers, a law enforcement officer, an assistant manager, two biological technicians, and an office assistant. We will strengthen our volunteer programs, friend's group, and partnerships by investing an increased portion of staff time into nurturing these promising relationships.

Authority: This notice is published under the authority of the National Wildlife Refuge System Improvement Act of 1997, Public Law 105-57.

Dated: September 14, 2010.
Mark J. Musaus,
Acting Regional Director.

[FR Doc. 2011-1867 Filed 1-27-11; 8:45 am]

BILLING CODE 4310-55-P